DEPARTMENT OF COMMERCE

International Trade Administration

A-570-890

Second Amended Final Results of Antidumping Duty Administrative Review: Wooden Bedroom Furniture from the People's Republic of China

AGENCY: Import Administration, International Trade Administration, Department of Commerce.

SUMMARY: On August 20, 2008, the Department of Commerce (“Department”) published in the Federal Register the final results of the second administrative review and concurrent new shipper review of the antidumping duty order on wooden bedroom furniture from the People's Republic of China (“PRC”). See Wooden Bedroom Furniture from the People's Republic of China: Final Results of Antidumping Duty Administrative Review and New Shipper Review, 73 FR 49162 (August 20, 2008) (“Final Results”) and accompanying Issues and Decision Memorandum (August 8, 2007) (“Issues and Decision Memo”). The period of review (“POR”) covered January 1, 2006, through December 31, 2006. On January 28, 2009, the Department published amended final results in the Federal Register. See Amended Final Results of Antidumping Duty Administrative Review: Wooden Bedroom Furniture From the People's Republic of China, 74 FR 4916 (January 28, 2009) (“First Amended Final Results”). We are amending our First Amended Final Results to correct ministerial errors made in the calculation of the antidumping duty margin for Fujian Lianfu Forestry Co./Fujian Wonder Pacific Inc./Fuzhou Huan Mei Furniture Co., Ltd./Jiangsu Dare Furniture Co., Ltd. (collectively, “the Dare Group”) and Teamway Furniture (Dong Guan) Co., Ltd., and Brittomart Inc. (collectively “Teamway”), pursuant to section 751(h) of the Tariff Act of 1930, as amended (“Act”). These corrections will also affect the dumping margins for the other companies in the review to which a separate rate applies. Dumping margins calculated with respect to the new shipper review concurrent with this administrative review are unaffected by these amended final results. See the “Ministerial Error Memorandum for the Second Amended Final Results of the 2006 Administrative Review of Wooden Bedroom Furniture from the People's Republic China” (“Ministerial Error Memo”), dated March 20, 2009.

EFFECTIVE DATE: August 20, 2008.

FOR FURTHER INFORMATION CONTACT: Paul Stolz, AD/CVD Operations, Office 8, Import Administration, International Trade Administration, U.S. Department of Commerce, 14th Street and Constitution Avenue NW, Washington, DC 20230; telephone: (202) 482-4474.

SUPPLEMENTARY INFORMATION:

Background

On February 12, 2009, American Furniture Manufacturers Committee for Legal Trade and Vaughan-Bassett Furniture Company (“Petitioners”) filed timely ministerial error allegations with respect to the Department's antidumping duty margin calculation in the First Amended Final Results. Teamway filed timely ministerial error allegations on February 17, 2009. No other interested party filed comments, and no interested party submitted rebuttal comments.

Scope of the Order

The product covered by the order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, oriented strand board, particle board, and fiberboard, with or without wood veneers, wood overlays, or laminates, with or without non-wood components or trim such as metal, marble, leather, glass, plastic, or other resins, and whether or not assembled, completed, or finished.

The subject merchandise includes the following items: (1) wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,¹ highboys,² lowboys,³ chests of drawers,⁴ chests,⁵ door chests,⁶ chiffoniers,⁷ hutches,⁸ and armoires;⁹ (6) desks, computer stands, filing cabinets, book cases, or writing tables that are attached to or incorporated in the subject merchandise; and (7) other bedroom furniture consistent with the above list.

¹ A chest-on-chest is typically a tall chest-of-drawers in two or more sections (or appearing to be in two or more sections), with one or two sections mounted (or appearing to be mounted) on a slightly larger chest; also known as a tallboy.

² A highboy is typically a tall chest of drawers usually composed of a base and a top section with drawers, and supported on four legs or a small chest (often 15 inches or more in height).

³ A lowboy is typically a short chest of drawers, not more than four feet high, normally set on short legs.

⁴ A chest of drawers is typically a case containing drawers for storing clothing.

⁵ A chest is typically a case piece taller than it is wide featuring a series of drawers and with or without one or more doors for storing clothing. The piece can either include drawers or be designed as a large box incorporating a lid.

⁶ A door chest is typically a chest with hinged doors to store clothing, whether or not containing drawers. The piece may also include shelves for televisions and other entertainment electronics.

⁷ A chiffonier is typically a tall and narrow chest of drawers normally used for storing undergarments and lingerie, often with mirror(s) attached.

⁸ A hutch is typically an open case of furniture with shelves that typically sits on another piece of furniture and provides storage for clothes.

⁹ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate;¹⁰ (9) jewelry armoires;¹¹ (10) cheval mirrors;¹² (11) certain metal parts;¹³ (12) mirrors that do not attach to, incorporate in, sit on, or hang over a dresser if they are not designed and marketed to be sold in conjunction with a dresser as part of a dresser-mirror set; (13) upholstered beds;¹⁴ and (14) toy boxes.¹⁵ Imports of subject merchandise are classified under subheading 9403.50.9040 of the HTSUS as “wooden . . . beds” and under subheading 9403.50.9080 of the HTSUS as “other . . . wooden furniture of a kind used in the bedroom.” In addition, wooden headboards for beds, wooden footboards for beds, wooden side rails for beds, and wooden canopies for beds may also be entered under subheading 9403.50.9040 of the HTSUS as “parts of wood” and framed glass mirrors may also be entered under subheading 7009.92.5000 of the HTSUS as “glass mirrors . . . framed.”

¹⁰ As used herein, bentwood means solid wood made pliable. Bentwood is wood that is brought to a curved shape by bending it while made pliable with moist heat or other agency and then set by cooling or drying. See Customs' Headquarters' Ruling Letter 043859, dated May 17, 1976.

¹¹ Any armoire, cabinet or other accent item for the purpose of storing jewelry, not to exceed 24“ in width, 18“ in depth, and 49“ in height, including a minimum of 5 lined drawers lined with felt or felt-like material, at least one side door (whether or not the door is lined with felt or felt-like material), with necklace hangers, and a flip-top lid with inset mirror. See Issues and Decision Memorandum from Laurel LaCivita to Laurie Parkhill, Office Director, Concerning Jewelry Armoires and Cheval Mirrors in the Antidumping Duty Investigation of Wooden Bedroom Furniture from the People's Republic of China, dated August 31, 2004. See also Wooden Bedroom Furniture from the People's Republic of China: Notice of Final Results of Changed Circumstances Review and Revocation in Part, 71 FR 38621 (July 7, 2006).

¹² Cheval mirrors are any framed, tiltable mirror with a height in excess of 50'' that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet lined with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Results of Changed Circumstances Review and Determination To Revoke Order in Part, 72 FR 948 (January 9, 2007).

¹³ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under the Harmonized Tariff Schedule of the United States (“HTSUS”) subheading 9403.90.7000.

¹⁴ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

¹⁵ To be excluded the toy box must: 1) be wider than it is tall; (2) have dimensions within 16 - 27 inches in height, 15 - 18 inches in depth, and 21 - 30 inches in width; (3) have a hinged lid that encompasses the entire top of the box; (4) not incorporate any doors or drawers; (5) have slow-closing safety hinges; (6) have air vents; (7) have no locking mechanism; and (8) comply with American Society for Testing and Materials (ASTM) standard F963-03. Toy boxes are boxes generally designed for the purpose of storing children's items such as toys, books, and playthings. See Wooden Bedroom Furniture from the People's Republic of China: Final Results of Changed Circumstances Review and Determination to Revoke Order in Part, 74 FR 8506 (February 25, 2009).

This order covers all wooden bedroom furniture meeting the above description, regardless of tariff classification. Although the HTSUS subheadings are provided for convenience and customs purposes, our written description of the scope of this proceeding is dispositive.

Ministerial Errors

A ministerial error is defined in section 751(h) of the Act and further clarified in 19 CFR 351.224(f) as “an error in addition, subtraction, or other arithmetic function, clerical error resulting from inaccurate copying, duplication, or the like, and any other similar type of unintentional error which the Secretary considers ministerial.”

After analyzing all interested parties' comments, we have determined, in accordance with 19 CFR 351.224(e), that ministerial errors existed in certain calculations for the Dare Group and Teamway in the First Amended Final Results. Correction of these errors results in a change to the Dare Group's and Teamway's final antidumping duty margins. Additionally, the rate change for the Dare Group and Teamway also affects the dumping margins for the other companies subject to the administrative review that receive a separate rate. The dumping margin for the PRC-wide entity remains unchanged. For a detailed discussion of these ministerial errors, as well as the Department's analysis, see the Ministerial Error Memo. The Ministerial Error Memo is on file in the Central Records Unit, room 1117 in the main Department building.

Therefore, in accordance with section 751(h) of the Act and 19 CFR 351.224(e), we are amending the First Amended Final Results of the administrative review of wooden bedroom furniture from the PRC. The revised weighted-average dumping margins are detailed below. For company-specific calculations, see “Analysis Memorandum for the Second Amended Final Results for the Dare Group,” dated March 20, 2009, and “Antidumping Duty Administrative Review: Wooden Bedroom Furniture from the People's Republic of China: Analysis of the Second Amended Final Results Margin Calculation for Teamway Furniture (Dong Guan) Ltd. and Brittomart Incorporated,” dated March 20, 2009. Listed below are the revised weighted-average dumping margins resulting from these amended final results:

Wooden Bedroom Furniture from the PRC
Exporter | Weighted-Average Margin (Percent)
Fujian Lianfu Forestry Co., Ltd., aka Fujian Wonder Pacific Inc. (Dare Group) | 39.46
Fuzhou Huan Mei Furniture Co., Ltd. (Dare Group) | 39.46
Jiangsu Dare Furniture Co., Ltd. (Dare Group) | 39.46
Teamway Furniture (Dong Guan) Co. Ltd., Brittomart Inc. | 22.29
BNBM Co., Ltd. (aka Beijing New Material Co., Ltd.) | 32.23
Classic Furniture Global Co., Ltd. | 32.23
Dalian Guangming Furniture Co., Ltd. | 32.23
Decca Furniture Ltd., aka Decca | 32.23
Dong Guan Golden Fortune Houseware Co., Ltd. | 32.23
Dongguan Mingsheng Furniture Co., Ltd. | 32.23
Dongguan Yihaiwei Furniture Limited | 32.23
Fortune Furniture Ltd. and its affiliate, Dongguan Fortune Furniture Ltd. | 32.23
Gaomi Yatai Wooden Ware Co., Ltd., Team Prospect International Ltd., Money Gain International Co. | 32.23
Guangming Group Wumahe Furniture Co., Ltd. | 32.23
Inni Furniture | 32.23
Mei Jia Ju Furniture Industrial (Shenzhen) Co. Ltd.¹⁶ | 216.01
Meikangchi (Nantong) Furniture Company Ltd. | 32.23
Nanjing Nanmu Furniture Co., Ltd. | 32.23
Po Ying Industrial Co. | 32.23
Qingdao Beiyuan-Shengli Furniture Co., Ltd., Qingdao Beiyuan Industry Trading Co. Ltd. | 32.23
Shenzhen Tiancheng Furniture Co., Ltd., Winbuild Industrial Ltd., Red Apple Furniture Co., Ltd. and Red Apple Trading Co., Ltd. | 32.23
Shenyang Kunyu Wood Industry Co., Ltd. | 32.23
Shenzhen Xingli Furniture Co., Ltd. | 32.23
Tianjin First Wood Co., Ltd. | 32.23
Union Friend International Trade Co., Ltd. | 32.23
Winmost Enterprises Limited | 32.23
Winny Overseas, Ltd. | 32.23
Yangchen Hengli Co., Ltd. | 32.23
Yichun Guangming Furniture Co., Ltd. | 32.23
Zhong Cheng Furniture Co., Ltd. | 32.23
PRC-Wide Rate¹⁷ | 216.01
¹⁶ Mei Jia Ju Furniture Industrial (Shenzhen) Co. Ltd. is subject to the new shipper review, not the administrative review. Therefore, its dumping margin is unaffected by these second amended final results of the administrative review.
¹⁷ The PRC-Wide Rate is unaffected by these second amended final results of the administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed for these final results within five days of the date of publication of this notice to interested parties in accordance with 19 CFR 351.224(b).

Assessment Rate

The Department will determine, and U.S. Customs and Border Protection (“CBP”) shall assess, antidumping duties on all appropriate entries based on the second amended final results. For details on the assessment of antidumping duties on all appropriate entries, see Final Results.

Cash Deposit Requirements

The following cash deposit requirements, pursuant to 751(a)(2)(C) of the Act, will be effective retroactively on any entries made on or after August 20, 2008, the date of publication of the Final Results, for all shipments of the subject merchandise entered, or withdrawn from warehouse, for consumption on or after the publication date: (1) for the exporters listed above, the cash deposit rate will be the rates shown for those companies (except if the rate is de minimis, i.e., less than 0.5 percent, a zero cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-Wide rate of 216.01 percent; and (4) for all non-PRC exporters of subject merchandise which have not received their own rate, the cash deposit rate will be the rate applicable to the PRC exporters that supplied that non-PRC exporter. These deposit requirements shall remain in effect until further notice.

These amended final results are published in accordance with sections 751(h) and 777(i)(1) of the Act.

Dated: March 20, 2009.
John M. Andersen,
Acting Deputy Assistant Secretary for Antidumping and Countervailing Duty Operations.

[FR Doc. E9-6902 Filed 3-26-09; 8:45 am]

BILLING CODE 3510-DS-S